DEPARTMENT OF COMMERCE

International Trade Administration

[Docket No. 050114011-5011-01]

Special American Business Internship Training Program (SABIT)

AGENCY: International Trade Administration (ITA), U.S. Department of Commerce.

ACTION: Notice.

SUMMARY: This Notice announces availability of funds for the Special American Business Internship Training Program (SABIT), for training business executives and scientists (also referred to as “Interns”) from Eurasia (see program description for eligible countries). The amount of financial assistance available for the program is $500,000.

DATES: Applications must be received by 5 p.m. Eastern Time on April 1, 2005. Processing of complete applications takes approximately three to six months. All awards will be made by September 30, 2005.

ADDRESSES: Request for Applications: Competitive Application Kits will be available from ITA starting on the day this notice is published. To obtain a copy of the Application Kit please contact SABIT by: (1) E-mail at SABITApply@ita.doc.gov, providing your name, company name and address; (2) Telephone (202) 482-0073; (3) The World Wide Web at http://www.mac.doc.gov/sabit/; (4) Facsimile (202) 482-2443; (5) Mail: Send a written request with two self-addressed mailing labels to Application Request, The SABIT Program, U.S. Department of Commerce, 1401 Constitution Avenue NW., FCB 4100W, Washington, DC, 20230.

The telephone numbers are not toll free numbers. Only one copy of the Application Kit will be provided to each organization requesting it, but it may be reproduced by the requesters.

FOR FURTHER INFORMATION CONTACT: Tracy M. Rollins, Director, SABIT Program, U.S. Department of Commerce, phone—(202) 482-0073, facsimile—(202) 482-2443. These are not toll free numbers.

SUPPLEMENTARY INFORMATION: Electronic Access: The full funding opportunity announcement for the SABIT program is available via Web site: http://www.fedgrants.gov/ or by contacting the program official identified above.

Funding Availability: Pursuant to section 632(a) of the Foreign Assistance Act of 1961, as amended (the “Act”) funding to the U.S. Department of Commerce (DOC) for the program will be provided by the United States Agency for International Development (AID). ITA will award financial assistance and administer the program pursuant to the authority contained in section 635(b) of the Act and other applicable grant rules. The amount of financial assistance available for the program is $500,000. Additional funding may become available at a future date. Financial assistance will be provided through cooperative agreements.

Statutory Authority: 22 U.S.C. 2395(b).

Catalog of Federal Domestic Assistance (CFDA): 11.114, Special American Business Internship Training Program.

Program Description: The ITA established the SABIT program in September 1990 to assist Eurasia's transition to a market economy. Since that time, SABIT has been supporting U.S. companies and organizations that wish to provide business executives and scientists from Eurasia three to six month programs of hands-on training in a U.S. market economy. Under the SABIT program, qualified U.S. firms (Host Firms) will receive funds through a cooperative agreement with ITA to help defray the cost of hosting Interns. The training must take place in the United States. ITA will approve Interns nominated by Host Firms, or assist in identifying eligible candidates. Interns may be citizens of any of the following countries in Eurasia: Armenia, Azerbaijan, Belarus, Georgia, Kazakhstan, Kyrgyzstan, Moldova, Russia, Tajikistan, Turkmenistan, Ukraine, and Uzbekistan. Some Eurasian countries may have certain restrictions with regard to U.S. funding. These restrictions, and any waivers of restrictions, are determined by the U.S. Department of State, not the SABIT program. Information on current restrictions is available upon request, but new restrictions may be put into place after a grant is awarded. The Host Firms will be expected to provide the Interns with a hands-on, non-academic, executive training program designed to maximize their exposure to management or commercially oriented scientific operations. At the end of the training program, the Intern must return to his/her home country. If there is any evidence of a conflict of interest between the nominated Intern and the Host Firm, the Intern is disqualified.

Managers: SABIT assists economic restructuring in Eurasia by providing mid-to-senior level business managers with practical training in American methods of innovation and management in areas such as strategic planning, financing, production, distribution, marketing, accounting, wholesaling, and/or labor relations. This first-hand experience in the U.S. economy enables Interns to become leaders in establishing and operating a market economy in Eurasia, and creates a unique opportunity for Host Firms to familiarize key executives from Eurasia with their products and services. Host Firms will benefit by establishing relationships with managers in similar industries who are uniquely positioned to assist their Host Firms in doing business in Eurasia.

Scientists: SABIT provides opportunities for gifted scientists to apply their skills to peaceful research and development in the civilian sector, in areas such as defense conversion, medical research, and the environment, and exposes them to the role of scientific research in a market economy where applicability of research relates to business success. Host Firms in the U.S. scientific community also benefit from exchanging information and ideas, and different approaches to new technologies.

All internships must last between three to six months; however, ITA reserves the right to allow an Intern to stay for a shorter period of time (not less than one month). ITA will reimburse Host Firms for the round trip international travel (coach class tickets) of each Intern from the Intern's home city in Eurasia to the U.S. internship site, a stipend of $34 per day to the Intern(s), and housing costs of up to $500.00 per month (excluding utilities or telephone services). For cities with higher costs of living, ITA will reimburse Host Firms up to $750.00 a month (excluding utilities or telephone services) for housing costs. Interns must return to their home countries immediately upon completion of their U.S. internships.

Host Firms wishing to utilize SABIT in order to be matched with an Intern without applying for financial assistance may do so. Such firms will be responsible for all costs, including travel expenses, related to sponsoring the Intern. However, prior to acceptance as a SABIT Intern, work plans and candidates must be approved by the SABIT program. Furthermore, program training will be monitored by SABIT staff and evaluated upon completion of training. ITA does not guarantee that it will match Host Firms with the Intern profile provided to SABIT.

Award Period: Recipient firms will have one year from the date listed on the Financial Assistance Award form, CD-450, to expend all funds. However, DOC reserves the right to extend the award period if the Host Firm can justify the need for extra time.

Eligibility: Eligible applicants for the SABIT program include all for-profit or non-profit U.S. corporations, associations, organizations or other public or private entities located in the United States. Agencies or divisions of the Federal Government are not eligible. However, state and local governments are eligible.

Matching Requirements: The SABIT program budget does not include matching requirements, however, Host Firms are expected to bear the costs beyond the $34 per day stipend, additional lodging costs (including utilities and local telephone service) beyond the reimbursed amount, any training-related travel within the United States, visa cost, emergency medical insurance, training manuals and provisions of the hands-on training for the Interns.

Project Funding Priorities: Applicants must indicate business sector(s). Although applicants operating in any industry sector may apply to the program, priority consideration is given to those operating in the following sectors: (a) Agribusiness (including food processing and distribution, and agricultural equipment), (b) Environment (including environmental clean up), (c) Financial services (including banking and accounting), (d) Construction and infrastructure development (including housing and transportation), (e) Medical equipment, supplies, pharmaceuticals, and health care management. Priority funding will also be given to applicants applying to host Interns from the following countries: Armenia, Kazakhstan, Kyrgyzstan, Tajikistan, Turkmenistan and Uzbekistan.

Evaluation and Selection Procedures: Each application will receive an independent, objective review by one or more three or four-member review panels qualified to evaluate applications submitted under the program. Panels may include federal employees and non-federal individuals. No consensus advice will be given by the panel. Applications received before the deadline will be evaluated on a competitive basis in accordance with the selection evaluation criteria set forth below. Applications that have received a passing score of 70 or above, based on the weighted evaluation criteria, will be ranked and awards will be made by the selecting official based on the evaluation criteria and selection factors until funds are depleted. Applications receiving scores below 70 will not be considered. ITA reserves the right to limit the award amount as well as the number of Interns per applicant.

Applicants must provide evidence of a satisfactory record of performance in grants, contracts and/or cooperative agreements with the Federal Government, if applicable. Applicants who are or have been deficient in current or recent performance in their grants, contracts, and/or cooperative agreements with the Federal Government shall be presumed to be unable to meet this requirement. If the applicant has a Federal Government Performance Record Statement, this must be specified in the Application Kit. If there is no record to date, the applicant should indicate this. Applicants who do not have a Federal Government Performance Record Statement will not be penalized.

Evaluation Criteria: Consideration for financial assistance will be given to those applications that provide the following (listed in order of decreasing importance so that criterion number 1 is most important, followed by criterion number 2, etc.):

(1) Work Plan. The applicant must provide a detailed work plan for the intended training. If the applicant is providing different training plans for different Interns, it MUST attach a separate work plan for each. If Interns will be trained on the same plan, only one plan needs to be attached. If an internship will take place at several organizations, a work plan for each organization must be provided. The work plan must include: (a) A detailed week-by-week description of internship activities; (b) a description of the Intern's duties and responsibilities; (c) complete contact information for the everyday internship coordinator; (d) locations of training within the company, if the internship(s) will be in different divisions; (e) locations of training outside the company. If the Intern will spend substantial amounts of time at one or more external organizations or companies (over one week) the applicant MUST provide a letter from each of those companies, indicating their willingness and ability to provide the planned training. Evaluation Scale: 0-40 points.

(2) Training Objectives Statement. The applicant must provide an objectives statement, clearly titled “Training Objectives” with the name of the applicant noted indicating the reason why the applicant wishes to provide a professional training experience to an Intern. The applicant must explain how the proposed training would further the intent and goals of the SABIT program to provide practical, on-the-job, non-academic, non-classroom training for a professional-level Intern. Evaluation Scale: 0-30 points.

(3) Intern Description(s) and Resume(s): The applicant should provide descriptions of the experience, education, and skills desired in an Intern for the training they intend to provide. If an applicant desires Interns from a specific region or country of Eurasia, it should be indicated in the application. If an applicant has nominated Interns for training, the Interns' resumes must be attached. Additionally, the applicant must describe the relationship that it has with each Intern. All Interns must meet SABIT criteria in order to participate. Evaluation Scale: 0-15 points.

(4) Financial Resources Documentation: Applicants must provide evidence of adequate financial resources to cover the costs involved in providing an internship(s). Evidence may include a published annual report, or a letter from the applicant's outside, independent accountant attesting to the applicant's financial ability to support the training program planned and the funds requested or a letter from the applicant's bank. All letters must be on the accountant's or bank's letterhead and addressed to the United States Department of Commerce. Evaluation Scale: 0-15 points.

Selection Factors: The selecting official reserves the right to select Host Firms based on U.S. geographic location, organization size as well as priority business sectors and country priorities (listed in Project Funding Priorities, above) and past performance. Host Firms may be eligible, pursuant to approval of an amendment of an active award, to host additional Interns under the program. The Director of the SABIT program is the selecting official for each award.

Intergovernmental Review: Applications under this program are not subject to Executive Order 12372, “Intergovernmental Review of Federal Programs.”

Application Forms and Kit: To obtain an Application Kit, please refer to the section above marked ADDRESSES. An original and two copies of the application (including all relevant standard forms and supplemental material) are to be sent to the address designated in the Application Kit and must be received no later than 5 p.m. Eastern Time on the closing date. Applicants are encouraged to sign the original application (including forms) with blue ink.

Other Requirements: DOC's Pre-Award Notification Requirements for Grants and Cooperative Agreements, which are contained in Federal Register Notice of December 30, 2004 (69 FR 78389), are applicable to this solicitation.

All applicants are advised of the following:

1. Host Firms will be required to comply with all relevant U.S. tax and export regulations. Export controls may relate not only to licensing of products for export, but also to technical data transfer. DOC's Bureau of Industry and Security (BIS formerly BXA, the Bureau of Export Administration) reviews applications to determine whether export licenses are required. SABIT will not award a grant until any export license issue has been satisfied.

2. The following statutes apply to this program: Section 907 of the FREEDOM Support Act, Public Law 102-511, 22 U.S.C. 5812 note (Restriction on Assistance to the Government of Azerbaijan); Public Law 107-115 (Waiver of Section 907 of the FREEDOM Support Act); 7 U.S.C. 5201 et seq. (Agricultural Competitiveness and Trade—the Bumpers Amendment); The Foreign Assistance Act of 1961, as amended, including Chapter 11 of Part I, Section 498A(b), Public Law 102-511, 22 U.S.C. 2295a(b) (regarding ineligibility for assistance); 22 U.S.C. 2420(a), Section 660(a) of The Foreign Assistance Act of 1961, as amended (Police Training Prohibition); and provisions in the annual Foreign Operations, Export Financing, and Related Programs Appropriations Acts, concerning impact on jobs in the United States (see, e.g., Section 536 of Pub. L. 106-113).

3. The collection of information is approved by the Office of Management and Budget (OMB), OMB Control Number 0625-0225. Public reporting for this collection of information is estimated to be eight hours per response, including the time for reviewing instructions, and completing and reviewing the collection of information. All responses to this collection of information are voluntary, and will be protected from disclosure to the extent allowed under the Freedom of Information Act.

The use of Standard Forms 270, 424 and 424B is approved under OMB Control Numbers 0348-0004, 0348-0043 and 0348-0040, respectively. Notwithstanding any other provision of law, no person is required to respond to, nor shall any person be subject to a penalty for failure to comply with, a collection of information subject to the requirements of the Paperwork Reduction Act unless that collection of information displays a currently valid OMB control number. Send comments regarding the burden estimate or any other aspect of this collection of information, including suggestions for reducing this burden, to the Reports Clearance Officer, International Trade Administration, Department of Commerce, Room 4001, 14th and Constitution Avenue NW., Washington, DC 20230.

4. Executive Order 13132: It has been determined that this notice does not contain policies with Federalism implications as that term is defined in E.O. 13132.

5. Administrative Procedure Act/Regulatory Flexibility Act: Because prior notice and opportunity for public comment are not required by the Administrative Procedure Act for rules concerning public property, loans, grants, benefits and contracts (5 U.S.C. 553(a)(2)), a Regulatory Flexibility Analysis is not required and has not been prepared for this notice (5 U.S.C. 601 et seq.).

Dated: January 26, 2005.
Tracy M. Rollins,
Director, SABIT Program.

[FR Doc. E5-362 Filed 1-31-05; 8:45 am]

BILLING CODE 3510-DS-P